DEPARTMENT OF JUSTICE

Notice of Lodging of Proposed Consent Decree Under the Clean Water Act

On September 29, 2023, the Department of Justice lodged a proposed Consent Decree with the United States District Court for the Eastern District of Tennessee in the lawsuit entitled United States and the State of Tennessee v. Hamilton County Water and Wastewater Treatment Authority, Civil Action No. 23-cv-00225.

The United States, on behalf of the U.S. Environmental Protection Agency (“EPA”), and the State of Tennessee filed this lawsuit under the Clean Water Act and Tennessee State law. The complaint seeks penalties and injunctive relief alleging that the Defendant discharged to waters of the United States without an NPDES Permit and violated the operations and maintenance conditions of its NPDES permit and, for our co-plaintiff State of Tennessee, violated Tennessee state laws. The proposed Consent Decree secures injunctive relief at Hamilton County's wastewater treatment plant and collection and transmission systems primarily focused on eliminating sanitary sewer overflows and bypasses at the treatment plant. WWTA must pay a civil penalty of $598,490, split evenly between the United States and the State of Tennessee.

The publication of this notice opens a period for public comment on the Consent Decree. Comments should be addressed to the Assistant Attorney General, Environment and Natural Resources Division, and should refer to United States and the State of Tennessee v. Hamilton County Water and Wastewater Treatment Authority, D.J. Ref. No. 90-5-1-1-11394. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $61.50 (25 cents per page reproduction cost), payable to the United States Treasury.

Lori Jonas,
Assistant Section Chief, Environmental Enforcement Section, Environment & Natural Resources Division.

[FR Doc. 2023-22152 Filed 10-4-23; 8:45 am]

BILLING CODE 4410-15-P